FEDERAL COMMUNICATIONS COMMISSION

47 CFR Part 73

[MB Docket No. 18-126; RM-11800; FCC 20-114; FRS 17043]

Television Broadcasting Services; Stamford, Connecticut

AGENCY: Federal Communications Commission.

ACTION: Final rule; application for review.

SUMMARY: This document denies an Application for Review filed by PMCM TV, LLC (PMCM) of the Media Bureau's grant of a rulemaking petition filed by Connecticut Public Broadcasting, Inc. (CPBI), licensee of noncommercial educational television station WEDW, Bridgeport, Connecticut, to change WEDW's community of license from Bridgeport to Stamford, Connecticut. The document finds that the Bureau's reallotment was proper.

DATES: Effective October 1, 2020.

FOR FURTHER INFORMATION CONTACT: Jeremy Miller, Jeremy.Miller@fcc.gov, Media Bureau, (202) 418-1507.

SUPPLEMENTARY INFORMATION: This is a synopsis of the Commission's Memorandum Opinion and Order, MB Docket No. 18-126, adopted August 11, 2020 and released August 11, 2020. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

Synopsis

In the Report and Order in this proceeding, the Bureau granted CPBI's request to change its community of license over the objection of PMCM. See 84 FR 16413-01 (April 19, 2019). The document rejects all of PMCM's challenges to this grant. First, the Commission disagrees with PMCM's argument that while the Commission partially lifted a freeze on community of license changes for petitions that do not require a change in the station's technical facilities, CPBI's rulemaking petition was not eligible because CPBI subsequently sought to relocate WEDW's technical facilities from Bridgeport to Stamford after filing the Petition. The Commission finds that consistent with these requirements of the partially lifted freeze, CPBI's petition did not request a change in WEDW's authorized technical facilities nor was such a change required to comply with the Commission's community coverage requirements. In particular, the Commission finds that the later-filed request to move transmission facilities to Stamford is a separate matter from CPBI's community of license petition and disagree with PMCM that the modification application is integral to consideration of the Petition.

The document also finds that the Application for Review was an impermissible collateral attack on CPBI's separate application to move its transmission facilities to Stamford, which had been final for over a year and not pending before the Commission.

In addition, the Commission also denies PMCM's argument that grant of this community of license change would effectively relocate WEDW to New York City. The petition for rulemaking did not propose to move the authorized technical facilities from its site near Bridgeport and, thus, CPBI did not propose a change to WEDW's service area as part of this rulemaking.

This document does not contain information collection requirements subject to the Paperwork Reduction Act of 1995, Public Law 104-13. In addition, therefore, it does not contain any information collection burden “for small business concerns with fewer than 25 employees,” pursuant to the Small Business Paperwork Relief Act of 2002, Public Law 107-198, see 44 U.S.C. 3506(c)(4). Provisions of the Regulatory Flexibility Act of 1980, see 5 U.S.C. 601-612, do not apply to this proceeding.

This document is not subject to the Congressional Review Act. (The Commission, is, therefore, not required to submit a copy of this Memorandum Opinion and Order to GAO, pursuant to the Congressional Review Act, see 5 U.S.C. 801(a)(1)(A) because the Application for Review was denied.)

Federal Communications Commission
Marlene Dortch,
Secretary.

[FR Doc. 2020-19545 Filed 9-30-20; 8:45 am]

BILLING CODE 6712-01-P